DEPARTMENT OF HEALTH AND HUMAN SERVICES

National Institutes of Health

Center for Scientific Review; Amended Notice of Meeting

Notice is hereby given of a change in the meeting of the Neurological, Aging and Musculoskeletal Epidemiology Study Section, October 25, 2006, 1 p.m. to October 26, 2006, 5 p.m., Beacon Hotel and Corporate Quarters, 1615 Rhode Island Avenue, NW., Washington, DC 20036 which was published in the Federal Register on September 28, 2006, 71 FR 56995-56997.

The meeting will be held at the Hilton Old Town Alexandria, 1767 King Street, Alexandria, VA 22314. The meeting dates and time remain the same. The meeting is closed to the public.

Dated: October 13, 2006.
Linda Payne,
Acting Director, Office of Federal Advisory Committee Policy.

[FR Doc. 06-8804 Filed 10-19-06; 8:45 am]

BILLING CODE 4140-01-M